DEPARTMENT OF DEFENSE

Office of the Secretary

[Docket ID: DoD-2023-HA-0014]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by July 31, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Health Related Behaviors Survey; OMB Control Number 0720-HRBS.

Type of Request: New.

Number of Respondents: 22,100.

Responses per Respondent: 1.

Annual Responses: 22,100.

Average Burden per Response: 20 minutes.

Annual Burden Hours: 7,367.

Needs and Uses: The Department of Defense's (DoD) Health Related Behaviors Survey (HRBS) is the largest population-based health survey of service members that collects self-report data on a number of important behavioral health issues affecting the wellbeing of active duty and reserve personnel. It provides a valuable snapshot of the overall behavioral health of the Force, both Active and Reserve Components, and alerts DoD leadership to areas of success, as well as areas where more attention—resources and policies—may be needed.

The survey fulfills several DoD requirements. First, Department of Defense Instruction (DoDI) 1010.01, dated September 13, 2012, on the Military Personnel Drug Abuse Testing Program (MPDATP) states: “Targeted and periodic surveys will be conducted of DoD MPDATP policy and guidance” (p. 9); the HRBS is the survey used for that documentation and to assess the effectiveness of DoD's Drug Demand Reduction Program (DDRP). Second, the HRBS permits comparisons between military populations in health behaviors over time. Importantly and contrary to other similar total force surveys in the military, the HRBS is a confidential survey conducted external to the DoD by a Federally Funded Research and Development Center. Thus, the HRBS has the advantage of reducing the possibility of underreporting of health behavior concerns associated with possible career impacts such as substance misuse. The items in the HRBS are informed directly by stakeholders and workgroups across the DoD who use the findings and data to respond to a variety of requests related to frequency of health-related problems in their services and health topic areas. The HRBS also allows for comparisons between military and civilian populations and can be used to assess progress with respect to identified goals and objectives for population health and well-being. For roughly the past 40 years, the Office of Disease Prevention and Health Promotion has developed a set of evidence-based objectives aimed at improving the health of American citizens. Benchmarks are established for 10-year cycles and the current set of goals is outlined in Healthy People 2030 (HP2030). DoDI 1010.10 states that it is Department policy to “Support the achievement of the Department of Health and Human Services' vision for improving the health of all Americans as outlined in Healthy People 2020.” Data from the HRBS facilitate comparisons to the updated HP2030 objectives. The 2023 version of the HRBS will assess a number of topics, including substance use and abuse (i.e., alcohol, tobacco, and illicit substances), physical and mental health, suicide, mental health service utilization, sexual health, and current topical issues affecting readiness.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 22, 2023.
Aaron T. Siegel,
Alternate OSD Federal Register Liaison Officer, Department of Defense.

[FR Doc. 2023-13806 Filed 6-28-23; 8:45 am]

BILLING CODE 5001-06-P